FEDERAL MARITIME COMMISSION

Ocean Transportation Intermediary License Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR Part 515, effective on the corresponding date shown below:

License Number: 018938F.

Name: Carex Shipping, LLC.

Address: 2235 E. Flamingo, Ste. 201G, Las Vegas, NV 89119.

Date Revoked: April 5, 2007.

Reason: Surrendered license voluntarily.

License Number: 012286N.

Name: Condor Seaway, Inc.

Address: 10975 NW 29th Street, Miami, FL 33172.

Date Revoked: March 25, 2007.

Reason: Failed to maintain a valid bond.

License Number: 017121N.

Name: Freight Logistics Services, LLC.

Address: 21905 64th Avenue West, Ste. 301-A, Mountlake Terrace, WA 98043.

Date Revoked: March 24, 2007.

Reason: Failed to maintain a valid bond.

License Number: 018562F.

Name: Global Tassili Transport Services, Inc.

Address: 8206 Fairbanks North Houston, Houston, TX 77064.

Date Revoked: March 29, 2007.

Reason: Failed to maintain a valid bond.

License Number: 002402F.

Name: Robert Gage Marshall dba Robert G. Marshall, CHB.

Address: 204 South Lane Avenue, Jacksonville, FL 32254.

Date Revoked: April 1, 2007.

Reason: Failed to maintain a valid bond.

License Number: 012382N.

Name: Sea Systems Ocean Line, Inc.

Address: 545 Hanover Park W., Ste. 109, Tukwila, WA 98188.

Date Revoked: March 23, 2007.

Reason: Failed to maintain a valid bond.

License Number: 018851NF.

Name: Sembcorp Logistics (USA) Inc.

Address: 815-817 West Arbor Vitae Street, Inglewood, CA 90301.

Date Revoked: March 27, 2007.

Reason: Surrendered license voluntarily.

License Number: 001849F.

Name: Stiegler Shipping Company, Inc.

Address: 1151 Hillcrest Road, Ste. F, Mobile, AL 36695.

Date Revoked: April 2, 2007.

Reason: Failed to maintain a valid bond.

License Number: 004395N.

Name: Superior Link International Inc.

Address: 380 S. Lemon Avenue, Ste. G, Walnut, CA 91789.

Date Revoked: April 1, 2007.

Reason: Failed to maintain a valid bond.

Sandra L. Kusumoto,
Director, Bureau of Certification and Licensing.

[FR Doc. E7-7353 Filed 4-17-07; 8:45 am]

BILLING CODE 6730-01-P